ENVIRONMENTAL PROTECTION AGENCY

[ER-FRL-6634-6]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167.

An explanation of the ratings assigned to draft environmental impact statements (EISs) was published in FR dated April 12, 2002 (67 FR 17992).

Draft EISs

ERP No. D-AFS-K65245-AZ Rating EC2, Kachina Village Forest Health Project, forest health improvements and wildfire reduction potentials on national forest system land, implementation, Coconino National Forest, Mormon Lake Ranger District, Coconino County, AZ.

Summary: EPA expressed environmental concerns related to transportation system planning, fire risk conditions on adjacent private lands, ecological justification for harvesting large trees, funding for mitigation and details of road decommissioning. EPA requested this information be included in the final EIS.

ERP No. D-AFS-K65246-AZ Rating LO, Flagstaff/Lake Mary ecosystem analyses area, amendment to the Coconino Forest Plan, implementation, Coconino National Forest, Peaks and Mormon Lake Ranger Districts, Coconino County, AZ.

Summary: EPA has no objections to the proposed action.

ERP No. D-AFS-K65364-CA Rating LO, Red Star Restoration Project, removal of fire-killed trees, fuel reduction, road reconstruction and decommissioning and associated restoration, Tahoe National Forest, Foresthill Ranger District, Placer County, CA.

Summary: EPA had no objections to the proposed project, given that the ecological restoration activities, including road decommissioning, mitigation measures, and monitoring are implemented as described in the Draft EIS.

ERP No. D-BLM-K65242-CA Rating LO, Coachella Valley California Desert Conservation Area Plan Amendment, Santa Rosa and San Jacinto Mountains Trails Management Plan, implementation, Riverside and San Bernardino Counties, CA.

Summary: EPA had no objections to the proposed plan, and requested that additional information concerning adaptive management and monitoring be provided in the Final EIS.

ERP No. D-BPA-L08062-WA Rating EC2, Grand Coulee-Bell 500-kV Transmission Line Project, construction and operation, U.S. Army COE section 10 permit issuance, Douglas, Lincoln, Grant Spokane Counties, WA.

Summary: EPA expressed environmental concerns regarding the alternatives, air quality, cultural resources, water quality, characterization of expected effects and threatened and endangered species. EPA requested additional information be added to the EIS to more fully discuss alternative actions, how the project will comply with existing TMDLs, clearly define resources at risk and include a biological assessment.

ERP No. D-COE-G01015-TX Rating LO, Three Oaks Mine Project, construction and operation of a surface lignite mine, U.S. Amry COE section 404 permit issuance, Lee and Bastrop Counties, TX.

Summary: EPA has no objections to the selection of the preferred alternative. EPA requested that clarification information be added to several items to strengthen the Final EIS.

ERP No. D-NPS-K65244-CA Rating LO, Yosemite Fire Management Plan, alternative for carrying out the fire management program, implementation, Yosemite National Park, Sierra Nevada, Mariposa, Tuolumne, Madera and Mono Counties, CA.

Summary: EPA had no objections to the proposed plan and commended the Park Service for its thorough and user friendly Draft EIS.

ERP No. DS-AFS-J65314-MT Rating LO, Meadow Smith Project, new and additional information concerning management actions designed to maintain the presence of and protect the unique characteristics of open-grow, large-tree ponderosa pine and western larch forest communities, Flathead National Forest, Swan Lake Ranger District, Lake and Missoula Counties, MT.

Summary: EPA expressed lack of objections and noted opportunities for increased mitigation measures with no more than minor changes to the proposed action resulting in improved aquatic health, especially improved fish passage.

Final EISs

ERP No. F-BLM-K65231-CA,Northern and Eastern Mojave Planning Area (NEMO), California Desert Conservation Area Plan Amendments, implementation Mojave Desert, CA.

Summary: No formal comment letter was sent to the preparing agency.

ERP No. F-BLM-K65330-CA,Northern and Eastern Colorado Desert Plan (Plan), implementation, comprehensive framework for managing species and habitats (BLM), Joshua Tree National Park (JTNP) and Chocolate Mountains Aerial Gunnery Range, California Desert, Riverside, Imperial and San Bernardino Counties, CA.

Summary: No formal comment letter was sent to the preparing agency.

ERP No. F-NPS-K65229-CA,Santa Cruz Island Primary Restoration Plan, implementation, Channel Island National Park, Santa Cruz Island, Santa Barbara County, CA.

Summary: No formal comment letter was sent to the preparing agency.

ERP No. FA-NOA-E91007-00,South Atlantic Region Shrimp Fishery Management Plan, amendment 5, additional information concerning rock shrimp in the Exclusive Economic Zone (EEZ), NC, SC, FL and GA.

Summary: EPA's previous issues have been resolved. Therefore, EPA has no objection to the proposed action and supports additional future amendments describing actions intended to generate data on bycatch and characteristics of rock shrimp essential habitats.

Dated: October 29, 2002.
Joseph C. Montgomery,
Director, NEPA Compliance Division, Office of Federal Activities.

[FR Doc. 02-27827 Filed 10-31-02; 8:45 am]

BILLING CODE 6560-50-P